DEPARTMENT OF ENERGY

Federal Energy Regulatory Commission

Sunshine Act Meetings; Notice of Vote, Explanation of Action Closing Meeting and List of Persons To Attend

The following notice of meeting is published pursuant to Section 3(a) of the Government in the Sunshine Act (Pub. L. 94-409), 5 U.S.C. 552b:

Agency Holding Meeting: Federal Energy Regulatory Commission.

DATE AND TIME: May 1, 2019, 1:30 p.m.

PLACE: Restricted Area, 888 First Street NE, Washington, DC 20426.

STATUS: Closed.

MATTERS TO BE CONSIDERED: Non-Public Internal Personnel Rules and Practices.

CONTACT PERSON FOR MORE INFORMATION: Kimberly D. Bose, Secretary, Telephone (202) 502-8400.

Chairman Chatterjee and Commissioners LaFleur, Glick, and McNamee voted to hold a closed meeting.

The Chairman and the Commissioners, their assistants, the Commission's Secretary, the General Counsel, and members of his staff, are expected to attend the meeting. Other staff members from the Commission's program offices who will advise the Commissioners in the matters discussed will also be present.

Issued: April 24, 2019.
Kimberly D. Bose,
Secretary.

[FR Doc. 2019-08770 Filed 4-26-19; 11:15 am]

BILLING CODE 6717-01-P